DEPARTMENT OF HEALTH AND HUMAN SERVICES

National Institutes of Health

National Cancer Institute, Amended Notice of Meeting

Notice is hereby given of a change in the meeting of the National Cancer Advisory Board, June 14, 2007, 1:15 p.m. to June 15, 2007, 11:45 a.m. National Institutes of Health, Building 31, 31 Center Drive, Bethesda, MD 20892 which was published in the Federal Register on May 21, 2007, 72 FR 28512.

This notice is amended to add the NCAB Ad Hoc Subcommittee on Experimental Therapeutics meeting on June 14, 2007 from 8:30 p.m. to 10:30 p.m. at the Bethesda Hyatt Hotel, One Metro Center, Bethesda, MD 20814. The meeting is open to the public.

Dated: June 6, 2007.
Jennifer Spaeth,
Director, Office of Federal Advisory Committee Policy.

[FR Doc. 07-2902 Filed 6-12-07; 8:45 am]

BILLING CODE 4140-01-M